DEPARTMENT OF DEFENSE

Office of the Secretary

[Docket ID DoD-2014-OS-0003]

Privacy Act of 1974; Systems of Records

AGENCY: National Security Agency/Central Security Service, DoD.

ACTION: Notice to alter a System of Records.

SUMMARY: The National Security Agency/Central Security Service proposes to alter a system of records, GNSA 03, entitled “NSA/CSS Office of General Counsel Correspondence, Claims, Complaints, and Litigation Files” in its existing inventory of records systems subject to the Privacy Act of 1974, as amended. This system is for the research, preparation and documentation of determinations and official responses of the NSA/CSS Office of General Counsel related to inquiries for information, complaints, litigation and official actions of other government agencies and branches.

DATES: This proposed action will be effective on February 10, 2014 unless comments are received which result in a contrary determination. Comments will be accepted on or before February 10, 2014.

ADDRESSES: You may submit comments, identified by docket number and title, by any of the following methods:

* Federal Rulemaking Portal: http://www.regulations.gov.

Follow the instructions for submitting comments.

* Mail: Federal Docket Management System Office, 4800 Mark Center Drive, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Kris Grein, National Security Agency/Central Security Service, Freedom of Information Act and Privacy Act Office, 9800 Savage Road, Suite 6248, Ft. George G. Meade, MD 20755-6248 or by phone at (301) 688-6527.

SUPPLEMENTARY INFORMATION: The National Security Agency/Central Security Service systems of records subject to the Privacy Act of 1974 (5 U.S.C. 552a), as amended, have been published in the Federal Register and are available from the address in FOR FURTHER INFORMATION CONTACT or at http://dpclo.defense.gov/privacy/SORNs/component/nsa/index.html.

The proposed system report, as required by 5 U.S.C. 552a(r) of the Privacy Act of 1974, as amended, was submitted on January 2, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 7, 2014.
Aaron Siegel,
Alternate OSD Federal Register Liaison Officer, Department of Defense.

GNSA 03

System name:

Correspondence, Cases, Complaints, Visitors, Requests (February 22, 1993, 58 FR 10531)

Changes:

* * * * *

System name:

Delete entry and replace with “NSA/CSS Office of General Counsel Correspondence, Claims, Complaints, and Litigation Files.”

System location:

Delete entry and replace with “National Security Agency/Central Security Service, 9800 Savage Road, Ft. George G. Meade, MD 20755-6000.”

Categories of individuals covered by the system:

Delete entry and replace with “Individuals or entities contacting the National Security Agency/Central Security Service (NSA/CSS) Office of General Counsel. Individuals requesting or requiring information relating to NSA/CSS litigation or anticipated NSA/CSS litigation.”

Categories of records in the system:

Delete entry and replace with “Records collected and maintained include individuals' names, Social Security Numbers (SSN), NSA employee identification numbers and case numbers. Correspondence from individuals include requests, claims, complaints, and administrative appeals. NSA responses, memoranda, notes, emails and supporting documentation relating to individuals' requests, claims, complaints and administrative appeals. Copies of requested records and copies of records that are the subject to requests under administrative appeal. Written material developed during, or in anticipation of, litigation or investigation of inquiries, claims or complaints. Written material developed in response to requests for advice or opinion from an individual. Written material required by law, executive order or regulations related to Equal Employment Opportunity investigations, Inspector General investigations, Judicial Branch subpoenas, orders and related actions.”

Authority for maintenance of the system:

Delete entry and replace with “National Security Agency Act of 1959; 50 U.S.C. 3605, Disclosure of Agency's organization, function, activities or personnel, (Pub. L. 8636), (formerly 50 U.S.C. 402 note); 50 U.S.C. 831-835, Regulations for employment security, (Pub. L. 88-290); Freedom of Information Act, 5 U.S.C. 552 (2006), amended by Open Government Act of 2007, (Pub. L. 110-175; Privacy Act of 1974, 5 U.S.C. 552a, Records maintained on individuals, (Pub. L. 93-579); Equal Employment Opportunity Act of 1974, (Pub. L. 92-261); Fair Labor Standards Amendment (1974), (Publ. L. 93-259); E.O. 10450, Security Requirements for Government Employment; E.O. 11222, Prescribing Standards of Ethical Conduct for Government Officers and Employees; E.O. 11478, Equal Employment Opportunity in the Federal Government; E.O. 13526, Classified National Security Information and E.O. 9397 (SSN), as amended.”

Purpose:

Delete entry and replace with “This system is for the research, preparation and documentation of determinations and official responses of the NSA/CSS Office of General Counsel related to inquiries for information, complaints, litigation and official actions of other government agencies and branches.”

Routine uses of records maintained in the system, including categories of users and the purposes of such uses:

Delete entry and replace with “In addition to those disclosures generally permitted under 5 U.S.C. 552a(b) of the Privacy Act of 1974, as amended, the records contained in this system may specifically be disclosed outside the DoD as a routine use pursuant to 5 U.S.C. 552a(b)(3) as follows:

To the Office of Equal Employment Opportunity as required, reports in summary or statistical form.

To appropriate government departments and agencies and the Judicial Branch where litigation or anticipated civil or criminal litigation is involved or where sensitive national security investigations related to protection of intelligence sources or methods are involved.

To other Federal departments and agencies when necessary and appropriate to coordinate Federal government responses.

To NSA/CSS contractor affiliates when necessary and appropriate for NSA/CSS to carry out the purposes of this system as described above.

The DoD Blanket Routine Uses set forth at the beginning of the NSA/CSS' compilation of system of records notices may apply to this system.”

Policies and practices for storing, retrieving, accessing, retaining, and disposing of records in the system:

Storage:

Delete entry and replace with “Paper records and electronic storage media.”

Retrievability:

Delete entry and replace with “By individual's name, SSN, NSA employee identification number, case number.”

Safeguards:

Delete entry and replace with “Buildings are secured by a series of guarded pedestrian gates and checkpoints. Access to facilities is limited to security-cleared personnel and escorted visitors only. Within the limited access facilities are limited access offices. Files are stored in lockable containers and on electronic media made available only to individuals specifically authorized to access. Access to electronic media is controlled by computer accounts and passwords. Specific additional access controls are placed on specific case types. Files related to sensitive investigations by the Equal Employment Opportunity Office, the Inspector General, and the NSA General Counsel are additionally protected pursuant to appropriate statues, executive orders and regulations as well as attorney-client privilege. In some cases records are sealed pursuant to a specific court order or due to the sensitivity of the particular subject matter.”

Retention and disposal:

Delete entry and replace with “Permanent: Transfer inactive files to NSA Records Center. Transfer to NSA Archives when no longer needed for operations or 30 years old. Transfer to NARA when 40 years old.”

System manager and address:

Delete entry and replace with “Office of General Counsel, National Security Agency/Central Security Service, Office of the General Counsel, 9800 Savage Road, Ft. George G. Meade, MD 20755-6278.”

Notification procedure:

Delete entry and replace with “Individuals seeking to determine whether records about themselves are contained in this system should address written inquiries to the National Security Agency/Central Security Service, Freedom of Information Act/Privacy Act Office, 9800 Savage Road, Suite 6248, Ft. George G. Meade, MD 20755-6248.

Written inquiries should contain the requester's full name, mailing address, telephone number and signature.”

Record access procedures:

Delete entry and replace with “Individuals seeking access to information about themselves contained in this system should address written inquiries to the National Security Agency/Central Security Service, Freedom of Information Act/Privacy Act Office, 9800 Savage Road, Suite 6248, Ft. George G. Meade, MD 20755-6248.

Written inquiries should contain the requester's full name, mailing address, telephone number and signature.”

Contesting record procedures:

Delete entry and replace with “The NSA/CSS rules for contesting contents and appealing initial Agency determinations are published at 32 CFR Part 322 or may be obtained by written request addressed to the National Security Agency/Central Security Service, Freedom of Information Act/Privacy Act Office, 9800 Savage Road, Suite 6248, Ft. George G. Meade, MD 20755-6248.”

Record source categories:

Delete entry and replace with “Correspondence to and from individuals and government departments and agencies. Written materials developed in response to requests and queries from individuals and government departments and agencies, claims, complaints, investigations and litigation.”

Exemptions claimed for the system:

Delete entry and replace with “Information specifically authorized to be classified under E.O. 13526, as implemented by DoD 5200.1-R, maybe exempt pursuant to 5 U.S.C. 552a(k)(1).

Investigatory material compiled for law enforcement purposes, other than material within the scope of subsection 5 U.S.C. 552a(k)(2). However, if an individual is denied any right, privilege, or benefit for which he would otherwise be entitled by Federal law or for which he would otherwise be eligible, as a result of the maintenance of the information, the individual will be provided access to the information exempt to the extent that disclosure would reveal the identity of a confidential source. Note: When claimed, this exemption allows limited protection of investigative reports maintained in a system of records used in personnel or administrative actions.

Records maintained solely for statistical research or program evaluation maintained solely for statistical research or program evaluation purposes and which are not used to make decisions on the rights, benefits, or entitlement of an individual except for census records which may be disclosed under 13 U.S.C. 8, may be exempt pursuant to 5 U.S.C. 552a(k)(4).

Investigatory material compiled solely for the purpose of determining suitability, eligibility or qualifications for federal civilian employment, military service, federal contracts, or access to classified information may be exempt pursuant to 5 U.S.C. 552a(k)(5), but only to the extent that such material would reveal the identity of a confidential source.

An exemption rule for this system has been promulgated according to the requirements of 5 U.S.C. 553(b)(1), (2) and (3), 553(c) and 553(3) and published in 32 CFR Part 322. For additional information contact the system manager.”

[FR Doc. 2014-00216 Filed 1-9-14; 8:45 am]

BILLING CODE 5001-06-P